DEPARTMENT OF HEALTH AND HUMAN SERVICES

Health Resources and Services Administration

Advisory Commission on Childhood Vaccines; Request for Nominations for Voting Members

AGENCY: Health Resources and Services Administration, HHS.

ACTION: Notice; amendment.

SUMMARY: The Health Resources and Services Administration is amending a notice that appeared in the Federal Register of July 8, 2005, FR Doc. 13422, pages 39517-38518, requesting nominations for voting members to fill three vacancies on the Advisory Commission on Childhood Vaccines. The deadline date for receiving nominations was on or before August 8, 2005. This document amends the notice by extending the deadline date for receiving nominations.

DATES: The agency must receive nominations on or before September 16, 2005.

FOR FURTHER INFORMATION CONTACT: Ms. Cheryl Lee at 301-443-2124 or e-mail clee@hrsa.gov.

Dated: August 18, 2005.
Tina M. Cheatham,
Director, Division of Policy Review and Coordination.

[FR Doc. 05-16789 Filed 8-23-05; 8:45 am]

BILLING CODE 4165-15-P